DEPARTMENT OF HEALTH AND HUMAN SERVICES

National Institutes of Health

Center for Scientific Review; Amended Notice of Meeting

Notice is hereby given of a change in the meeting of the Center for Scientific Review Special Emphasis Panel, June 9, 2011, 11 a.m. to June 10, 2011, 5 p.m., National Institutes of Health, 6701 Rockledge Drive, Bethesda, MD, 20892 which was published in the Federal Register on May 25, 2011, 76 FR 30372-30373.

The meeting will be held July 6, 2011, 10 a.m. to July 7, 2011, 5 p.m. The meeting location remains the same. The meeting is closed to the public.

Dated: May 27, 2011.
Jennifer S. Spaeth,
Director, Office of Federal Advisory Committee Policy.

[FR Doc. 2011-13793 Filed 6-2-11; 8:45 am]

BILLING CODE 4140-01-P